TENNESSEE VALLEY AUTHORITY

Sunshine Act; Meeting No. 1555

Time and Date: 9 a.m. (CDT), October 27, 2004. Hopkinsville-Christian County Conference and Convention Center, 303 Conference Center Drive, Hopkinsville, Kentucky.

Status: Open.

Agenda

Approval of minutes of meeting held on September 22, 2004.

New Business

C—Energy

C1. Supplement to Contract No. 988 with Ingersoll-Rand Company for air compressors and replacement parts for any TVA location.

C2. Contract with Global Nuclear Fuel-Americas, LLC, for nuclear fuel and related engineering services for Browns Ferry Nuclear Plant Unit 1 and supplement to the contract with United States Enrichment Corporation for natural uranium for BFN1.

C3. Contract with ABB, Inc., for the supply of excitation systems to various hydro plants.

E—Real Property Transactions

E1. Grant of a permanent easement to the City of Dayton, Tennessee, without charge except for TVA's administrative costs, for an access road and culvert, affecting approximately .47 acre of land on Chickamauga Reservoir in Rhea County, Tennessee, Tract No. XTCR-203AR.

E2. Sale of a permanent easement to the Shoals Economic Development Authority for the construction of a railroad spur, affecting approximately .11 acre of land at the Colbert-Tupelo No. 2 transmission line in Colbert County, Alabama, Tract No. XCOT-1RR.

E3. Grant of a permanent easement to the Kentucky Transportation Cabinet for highway and bridge purposes, affecting approximately 41.1 acres of land on Kentucky Reservoir in Marshall and Livingston Counties, Kentucky, Tract No. XTGIR-154H; transfer of approximately 26 acres of land, Tract No. XTGIR-155, and grant of a permanent easement affecting approximately 7.1 acres of land, Tract No. XTFIR-156RR, to the Paducah & Louisville Railroad, Inc., for a railroad relocation project on the Kentucky Reservoir in Marshall and Livingston Counties, Kentucky; and grant of a permanent easement to Vulcan Industries affecting approximately .9 acre of land on Kentucky Reservoir in Livingston County, Kentucky, Tract No. XGIR-942RR.

Information Items

1. Approval of a delegation of authority to the Chief Financial Officer and Executive Vice President, Financial Services, and the Senior Vice President, Treasurer/Investor Relations, to amend swap arrangements with Merrill Lynch Derivative Products AG.

2. Approval of amendments to the 1996 delegation to enter into agreements for the sale, purchase, and loan of sulfur dioxide (“SO2”) allowances (the “1996 Delegation”) to (1) add nitrogen oxide (“NOX”) allowances to the 1996 Delegation, (2) increase the maximum authorized value of each transaction from $20 million to $50 million, and (3) clarify that the 1996 Delegation does and, as amended, will include the authority to engage in (a) the purchase and sale of options and (b) swaps of allowances.

3. Approval of a supplement to Contract No. 2290 with Nuclear Electric Insurance Limited for accidental outage insurance at Browns Ferry, Sequoyah, and Watts Bar Nuclear plants and delegation of authority to the Vice President, Corporate Finance and Risk Management, to purchase, renew and take other ancillary actions as necessary.

4. Approval of an authorization to the Chief Nuclear Officer and Executive Vice President, TVA Nuclear, to certify to the Nuclear Regulatory Commission that TVA has the requisite authority to, and will, make nuclear material decommissioning funds available as necessary.

5. Approval to allow a TVA employee to purchase original artwork.

6. Approval of revised Dispersed Power Production Guidelines for TVA and distributors of TVA power.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: October 20, 2004.
Maureen H. Dunn,
General Counsel and Secretary.

[FR Doc. 04-23922 Filed 10-21-04; 11:15 am]

BILLING CODE 8120-08-P